DEPARTMENT OF TRANSPORTATION

National Highway Traffic Safety Administration

49 CFR Part 594

[Docket No. NHTSA 2006-24128; Notice 2]

RIN 2127-AJ87

Schedule of Fees Authorized by 49 U.S.C. 30141

AGENCY: National Highway Traffic Safety Administration (NHTSA), DOT.

ACTION: Notice of proposed rulemaking; Correction.

SUMMARY: This document corrects the docket number identified in a notice of proposed rulemaking published in the Federal Register on April 19, 2006, proposing fees for Fiscal Year 2007 and until further notice relating to the registration of importers and the importation of motor vehicles that are not certified as conforming to the Federal motor vehicle safety standards (FMVSS).

FOR FURTHER INFORMATION CONTACT: Coleman Sachs, Office of Vehicle Safety Compliance, NHTSA (202-366-5291).

Correction

NHTSA is correcting the docket number for the notice of proposed rulemaking, published on April 19, 2006 (at 71 FR 20061), proposing fees, as authorized by 49 U.S.C. 30141, relating to the registration of importers and the importation of motor vehicles that are not certified as conforming to the FMVSS. The docket number was incorrectly identified as “NHTSA 2006-2412”. The correct docket number is “NHTSA 2006-24128”. The correct docket number should be identified on any comments submitted in response to the notice of proposed rulemaking.

Ronald L. Medford,
Senior Associate Administrator for Vehicle Safety.

[FR Doc. E6-6936 Filed 5-8-06; 8:45 am]

BILLING CODE 4910-59-P